DEPARTMENT OF DEFENSE

GENERAL SERVICES ADMINISTRATION

NATIONAL AERONAUTICS AND SPACE ADMINISTRATION

48 CFR Chapter 1

[Docket No. FAR-2023-0051, SequenceNo. 2]

Federal Acquisition Regulation; Federal Acquisition Circular 2023-03; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2023-03, which amends the Federal Acquisition Regulation (FAR). Interested parties may obtain further information regarding these rules by referring to FAC 2023-03, which precedes this document.

DATES: April 26, 2023.

ADDRESSES: The FAC, including the SECG, is available at https://www.regulations.gov.

FOR FURTHER INFORMATION CONTACT: For clarification of content, contact the analyst whose name appears in the table below. Please cite FAC 2023-03 and the FAR Case number. For information pertaining to status or publication schedules, contact the Regulatory Secretariat Division at 202-501-4755 or GSARegSec@gsa.gov. An asterisk (*) next to a rule indicates that a regulatory flexibility analysis has been prepared.

Rules Listed in FAC 2023-03
Item | Subject | FAR case | Analyst
*I | Removal of FAR Subpart 8.5, Acquisition of Helium | 2022-007 | Jackson.
*II | Exemption of Certain Contracts from the Periodic Inflation Adjustments to the Acquisition-Related Thresholds | 2022-002 | Ryba.
III | Technical Amendments.

SUPPLEMENTARY INFORMATION: Summaries for each FAR rule follow. For the actual revisions and/or amendments made by these FAR rules, refer to the specific item numbers and subjects set forth in the documents following these item summaries. FAC 2023-03 amends the FAR as follows:

Item I—Removal of FAR Subpart 8.5, Acquisition of Helium (FAR Case 2022-007)

This final rule amends the FAR to implement the statutory expiration of the Federal Helium System in accordance with the Helium Stewardship Act of 2013 (Pub. L. 113-40). The Helium Stewardship Act required the disposal of the Federal Helium System by September 30, 2021. The Federal In-Kind Program ended a year later, on September 30, 2022. Agencies now procure helium on the open market as they do for other requirements.

The final rule will not have a significant economic impact on a substantial number of small entities because it removes all of the procedures and reporting requirements associated with helium procurements currently in the FAR. Procurements for helium shall be conducted using the most appropriate methods in the FAR.

Item II—Exemption of Certain Contracts From the Periodic Inflation Adjustments to the Acquisition-Related Thresholds (FAR Case 2022-002)

This final rule amends the FAR to add a new statutory exception for certain performance and payment bonds requirements for construction contracts to the already established list of acquisition-related thresholds not subject to escalation. These updates ensure that the current dollar thresholds are retained for performance and payment bonds as well as the threshold for alternatives to such bonds. This rule is not expected to have a significant impact on the Government or industry, to include small entities, because the rule maintains acquisition-related thresholds that have been in the FAR for several years.

Item III—Technical Amendments

Administrative change is made at FAR 7.403.

William F. Clark,
Director, Office of Government-wide Acquisition Policy, Office of Acquisition Policy, Office of Government-wide Policy.

[FR Doc. 2023-08200 Filed 4-25-23; 8:45 am]

BILLING CODE 6820-EP-P